DEPARTMENT OF DEFENSE

Office of the Secretary

[DOD-2006-OS-0133; RIN 0790-AI06]

32 CFR Part 245

Plan for the Emergency Security Control of Air Traffic (ESCAT)

AGENCY: Department of Defense.

ACTION: Final rule; correction.

SUMMARY: This document amends the final rule published on the national plan for security control of air traffic during air defense emergencies to make administrative adjustments and includes correcting the effective date of the final rule, and removes references to State and regional disaster airlift (SARDA), rescinded by the Federal Aviation Administration on March 17, 2005.

DATES: The effective date for the final rule published at 71 FR 61889, October 20, 2006, is corrected to read: January 18, 2007.

FOR FURTHER INFORMATION CONTACT: Mr. Gerald F. Pease, Jr., (703) 697-6937.

SUPPLEMENTARY INFORMATION: On October 20, 2006 the Department of Defense published a final rule on Plan for the Emergency Security Control of Air Traffic (ESCAT) which contained errors and outdated criteria.

In rule FR Doc. E6-17179 published on October 20, 2006, (71 FR 61889), make the following corrections:

1. On page 61889, in the first column, in the DATES section, revise the effective date to read January 18, 2007.

§ 245.5 [Corrected]

2. On page 61890, in the third column, remove the term State and regional disaster airlift (SARDA) and its definition from § 245.5.

§ 245.6 [Corrected]

3. On page 61891, in the first column, remove “SARDA—State and Regional Disaster Airlift” from the list of acronyms in § 245.6.

§ 245.22 [Corrected]

4. On page 61894, under § 245.22, in the second column, remove paragraph (d) and redesignate paragraph (e) as paragraph (d).

Dated: November 2, 2006.
L.M. Bynum,
Alternate OSD Federal Register Liaison Officer, DoD.

[FR Doc. 06-9113 Filed 11-9-06; 8:45 am]

BILLING CODE 5001-06-M